DEPARTMENT OF HEALTH AND HUMAN SERVICES

Centers for Disease Control and Prevention

[Program Announcement 03074]

Environmental and Health Effect Tracking; Notice of Availability of Funds

Application Deadline: July 29, 2003.

A. Authority and Catalog of Federal Domestic Assistance Number

This program is authorized under section 301 of the Public Health Service Act, (42 U.S.C. 241), as amended. The Catalog of Federal Domestic Assistance number is 93.283.

B. Purpose

The Centers for Disease Control and Prevention (CDC) announce the availability of fiscal year (FY) 2003 funds for a cooperative agreement program to support development of the National Environmental Public Health Tracking (Surveillance) Network. This program addresses the “Healthy People 2010” focus areas of Environmental Health, Cancer, Maternal, Infant, and Child Health, and Public Health Infrastructure.

The purpose of this program is to demonstrate and evaluate methods for linking data from ongoing, existing health effects surveillance systems with data from existing surveillance/monitoring systems for human exposure and environmental hazards. Data systems used can be for a defined geographic region within the state, state-wide, regional or national. The activities in this program announcement are intended to improve existing surveillance and monitoring systems by enhancing epidemiologic, analytic and technological capacity at the local, state, and regional level. Methods, tools, and best practices developed through this program will be used in advancing the development of a standards-based, coordinated, and integrated environmental public health tracking (surveillance) network at the state, regional, and national level. See Appendix I for background information about environmental public health tracking (surveillance). Appendix II contains definitions of the terminology used in this program announcement to ensure applicants fully understand the purpose and intent of this announcement. All appendices referenced in this announcement are posted with the announcement on the CDC Web site, Internet address: http://www.cdc.gov. Click on “Funding,” then “Grants and Cooperative Agreements.”

Environmental Public Health Tracking deals specifically with chronic diseases, birth defects, developmental disabilities, and other non-infectious health effects that may be related to exposure to chemicals, physical agents, biomechanical stressors, or biologic toxins in the environment. Appendix I further describes the health effects and environmental factors eligible for inclusion in the overall tracking program. This program announcement focuses on specific health effects which include birth defects, developmental disabilities, cancer, asthma and other respiratory disease, autoimmune diseases, neurological/immunologic diseases, heavy metal poisoning, and pesticide poisoning. The need for an environmental public health tracking (surveillance) network in which health effect, exposure, and hazard data can be linked on an ongoing basis was well documented by the Pew Environmental Health Commission in its report “America's Environmental Health Gap: Why the Country Needs a Nationwide Health Tracking Network.” The Internet address of this report is available in Appendix III.

Both the CDC and the Environmental Protection Agency (EPA) have large ongoing efforts to develop, standardize, and promote electronic reporting of data and to improve collaboration across categorical programs. Work being done to create the Environmental Public Health Tracking Network falls under a larger effort at CDC and ATSDR to integrate data that is referred to as the Public Health Information Network (PHIN). PHIN covers all ongoing CDC and ATSDR surveillance activities including the National Electronic Disease Surveillance System (NEDSS) and bioterrorism surveillance and provides architectural and technical standards and specifications as a starting point for all system design activities. For reference, Appendix III contains the Internet addresses for NEDSS and PHIN, which include information about the Public Health Information Technology Functions and Specifications. The EPA's National Environmental Information Exchange Network is also contained in this appendix.

This program announcement focuses on the use and enhancement (for example, by adding geo-coded data items) of existing surveillance/monitoring systems at the local, state or regional level rather than development of new systems. Existing Birth Defects surveillance systems should include at least 35,000 live births per year. Cancer registry surveillance systems should be limited to those registries that have obtained certification from the North American Association of Central Cancer Registries (NAACCR). Additionally, these existing systems should contain data of sufficient completeness, timeliness, and quality to allow reporting of valid estimates of health effect prevalence, incidence, or mortality for a population; and they should be readily available to health department staff for analysis and dissemination of information to guide public health action.

Measurable outcomes of the program will be in alignment with the following performance goals: National Center for Environmental Health (NCEH)—Increase the capacity of state and local health departments to deliver environmental health services in their communities; National Center for Chronic Disease Promotion and Health Promotion (NCCDPHP—Improve the quality of state-based cancer registries; National Center for Birth Defects and Developmental Disability (NCBDDD)—Prevent birth defects and developmental disabilities; National Center for Health Statistics (NCHS)—Monitor trends in the nation's health through high-quality data systems addressing issues relevant to decision makers.

Agency for Toxic Substances and Disease Registry (ATSDR)—Ascertain the relationship between exposure to toxic substances and disease.

Linkage projects initiated under this program announcement should support ongoing, integrated and systematic surveillance/monitoring efforts. Projects should focus on existing surveillance/monitoring systems that are either statewide or regional and should develop sustainable models for linking environmental exposure and/or hazard data with one or more of the following health effects:

(1) Major structural birth defects

(2) Developmental disabilities such as Autism, mental retardation, and other developmental disabilities.

(3) Cancers, especially those for which there are shorter latency periods, such as hematopoietic, central nervous system and childhood cancers

(4) Asthma and other chronic obstructive respiratory diseases

(5) Neurological diseases, including Alzheimer's disease, amyotrophic lateral sclerosis (ALS), multiple sclerosis (MS), and Parkinson's

(6) Autoimmune diseases such as Hashimoto's thyroiditis, rheumatoid arthritis, scleroderma, and systemic lupus erythematosus

(7) Pesticide Poisoning

(8) Heavy Metal Poisoning (e.g. lead, mercury)

C. Eligible Applicants

Applications may be submitted by:

• State health departments or their bona fide agents (this includes the District of Columbia, Puerto Rico, the Virgin Islands, the Commonwealth of the Northern Mariana Islands, American Samoa, Guam, the Federated States of Micronesia, the Republic of the Marshall Islands, the Republic of Palau)

• The local health departments of Chicago IL, Philadelphia PA, Los Angeles County, Houston TX, and New York City NY (in consultation with states).

Due to limited resources, competition is limited to only the listed applicants. This accommodates legislative appropriations language which began the Tracking initiative in FY 2002 and which specified capacity development of environmental health at state and local health departments. The cities listed are the five largest incorporated metropolitan areas in the United States.

An important component of this announcement is to build partnerships between and within environmental and health agencies/departments/staff; therefore, applicants must demonstrate that their program will be a collaborative effort by including the following with their application:

1. A letter of collaboration signed by both the state (or local) Secretary/Director of Health or equivalent and the state (or local) Secretary/Director of Environmental Quality/Protection/Natural Resources or the equivalent agency/department confirming that partnerships exist or will be developed:

a. Across Health and Environmental Agencies/Departments. (Evidence of a partnership may be a confirmation of an existing memorandum of understanding (MOU) between Health and Environment that covers activities related to this program announcement).

b. Between appropriate organizational units within each Agency/Department (Within the Health Department this may include birth defect programs, cancer registries, environmental epidemiology, the state laboratory, chronic disease directors, and others).

c. If Health and Environment are organized under one state/local agency/department, a letter of intent from the Secretary/Director or equivalent of that agency/department confirming that partnerships exist or will be developed across appropriate organizational units within the Agency/Department is required.

2. Designation of public health liaison within the environmental agency/department and an environmental liaison within the health agency/department.

3. Eligible local health departments must provide assurances that activities related to this program will be coordinated with the State Health Department.

4. If the applicant is a bona fide agent of the state/local health department, a letter from the state/local health department designating the applicant as such must be provided.

These documents should be placed directly behind the face page (first page) of your application. Applications that fail to submit documentation requested above will be considered non-responsive and returned to the applicant without review.

Note: Title 2 of the United States Code section 1611 states that an organization described in section 501(c)(4) of the Internal Revenue Code that engages in lobbying activities is not eligible to receive Federal funds constituting an award, grant or loan.

D. Funding

Availability of Funds

Approximately $6,000,000 is available in FY 2003 to fund approximately 12 awards. It is expected that the average award will be $350,000 ranging from $200,000 to $500,000. It is expected that the awards will begin on or about September 15, 2003, and will be made for a 12-month budget period within a project period of up to three years. Funding estimates may change.

Continuation awards within an approved project period will be made on the basis of satisfactory progress as evidenced by required reports and the availability of funds.

Use of Funds

Applicants may use funds for those activities that increase technical, analytic, and epidemiologic capacity and must ensure that resources will be shared between collaborating agencies and between collaborating programs within each agency. Applicants should hire an environmental epidemiologist if that expertise is currently unavailable.

Funding Preference

Special consideration will be given applications that encourage and embody partnerships across various agencies and programs regardless of funding sources.

Recipient Financial Participation

Matching funds are not required for this program.

E. Program Requirements

In conducting activities to achieve the purpose of this program, the recipient will be responsible for the activities listed in 1. Recipient Activities and CDC (working collaboratively with ATSDR) will be responsible for the activities listed in 2. CDC and ATSDR Activities.

1. Recipient Activities

a. Develop and implement a work plan including a detailed timeline to address each recipient activity.

b. Develop mechanisms for establishing ongoing collaboration, communication, and coordination of activities between and within members of relevant health and environmental agencies. One example of such a mechanism could be a coordinating committee that includes representatives of existing state health effects surveillance programs such as Birth Defects, Developmental Disabilities, and Cancer Registries and Asthma and Lead Poisoning surveillance programs; representatives of the state environmental epidemiology program or environmental public health tracking programs (currently funded through CDC or ATSDR); representatives of existing capacity-building programs in chronic disease surveillance (e.g. SLE, MS, ALS); representatives of air, water, pesticide or other environmental monitoring programs, representatives of state health and environmental laboratories; and state health and environmental informatics officers/staff. (See Web sites in Appendix III to identify those states currently receiving CDC funding for Environmental Public Health Tracking, Birth Defects, Developmental Disabilities, Asthma, the National Program of Cancer Registries, laboratory biomonitoring capacity, and capacity-building programs in SLE, MS, and ALS surveillance.

c. Establish an advisory group consisting of technical experts, local health and environmental agency staff, community members, academic researchers, and other key stakeholders who can provide substantive recommendations on planning, implementing, and communicating information from this project. This group should meet at least quarterly.

d. Implement a project(s) that links existing health effect surveillance data with exposure and/or hazard data as part of an ongoing surveillance activities and a sustainable effort to build capacity. This project should include at a minimum: one or more of the health effects with a possible relationship to the environment that were listed in Section B, one or more measures of human exposure, and/or one or more types of environmental hazard (as defined in Section A and Appendices I and II). Selection of health effects/exposures/hazards from those specified in this program announcement should be in line with state/local priorities.

e. Demonstrate the utility of this linked data in guiding public health policy and practice (including triaging, assessing and responding to public concerns about clusters). The project should include the analysis and dissemination of data in a timely manner for use in public health practice or environmental protection programs and should include a feedback mechanism that identifies linkage challenges and plans to resolve those challenges. When applicable, the project should address linkage or comparability to national level data.

f. Develop strategies for communicating information generated by this project to diverse audiences including health care providers and the public. This should include strategies for responding to public inquiries and informing audiences (including community members) about the incidence, prevalence, or mortality of selected health effects and risk factors.

g. Conduct a comprehensive evaluation of this project. Refer to the Morbidity and Mortality Weekly Report titled “Framework for Program Evaluation in Public Health” (See Appendix II for Web site.)

h. Based on the evaluation, develop a written report outlining lessons learned from this project that includes but is not limited to the following:

i. Specific methodology and tools used to link data.

ii. Potential uses of the linked data and its limitations, including its utility in responding to public concerns about disease clusters.

iii. Barriers to implementing the linkage project such as limitations in data available including issues related to data quality (that includes a special focus on geo-coded data), timeliness and data collection practices; availability and use of data standards; compatibility of data and information technology standards and specifications across health and environmental systems; limitations of analytic methods, limits in legislative/regulatory authorities for state health/environmental agencies.

iv. Feasibility, utility and sustainability of incorporating linkage methods and tools into ongoing surveillance activities and into an integrated environmental public health tracking network.

v. Assessment of compatibility of data systems utilized with those being developed or enhanced under the CDC Public Health Information Network (includes Environmental Public Health Tracking, NEDSS, Bioterrorism-related surveillance activities at CDC, and the national vital statistics system) and EPA's National Environmental Information Exchange Network. (See Appendix III for the Internet addresses.)

vi. Effectiveness of communications strategies and messages, including an assessment of the program's ability to respond to public inquiries and to provide information to health department officials, health care providers, and the public regarding reported clusters.

vii. Recommendations for improvements in data collection, reporting, geo-coded linkages, and quality; development of new methodology; improvement in interoperability of databases; legislative/regulatory changes; improvements in data dissemination/communication strategies; and training needs of state and local staff on carry out data linkage and to effectively utilize data.

i. Participate in quarterly conference calls with other programs funded under this program announcement and with other Environmental Public Health Tracking Program partners including CDC state and local Tracking programs; CDC Centers of Excellence in Environmental Public Health Tracking (see Appendix IV); participating Centers, Institutes, and Offices at CDC such as the National Center for Birth Defects and Developmental Disabilities (NCBDDD); the National Center for Chronic Disease Prevention and Health Promotion; the National Center for Environmental Health; and the National Center for Health Statistics; and the Agency for Toxic Substances and Disease Registry (ATSDR).

j. Attend workgroups and meetings with other Environmental Public Health Tracking (surveillance) Program partners to share lessons learned and participate in activities related to improving data system interoperability such as CDC's annual PHIN meeting.

2. CDC and ATSDR Activities

a. Provide technical assistance in work plan development, and the design and implementation of program activities, including analysis and dissemination of data. This will include individual consultation to funded programs via site visits, e-mail, and telephone and the provision of written guidance materials and references. Experts from the appropriate CDC Center will provide health effects technical assistance.

b. Provide coordination between and among recipient organizations by assisting in the sharing of information through the CDC Web sites ( e.g. the National Birth Defects Prevention Network), the National Environmental Public Health Tracking Program web board, related stakeholders meetings, and direct interactions.

c. Coordinate activities at the national level among Centers, Institutes and Offices at CDC and the Agency for Toxic Substances and Disease Registry and with other Federal Agencies such as the Environmental Protection Agency.

d. Ensure involvement of other key governmental and non-governmental partners as needed. These may include the Council of State and Territorial Epidemiologists, the Environmental Council of States, the Association of Public Health Laboratories, the Association of State and Territorial Health Officials, the National Association of City and County Health Officers, the National Association of Health Data Organizations, the American Lung Association, the American Medical Association, the American Water Works Association, Chronic Disease Directors, the March of Dimes, American Academy of Pediatrics, the North American Association of Central Cancer Registries, the American Cancer Society, the National Birth Defects Prevention Network, and others.

e. Convene workgroups to discuss data system interoperability and develop enhancements to the PHIN architecture, standards, and conceptual and logical data models.

F. Content

Pre-application Conference Call

Two pre-application conference calls are scheduled for interested applicants. These will occur July 1, 2003, from 1 to 3 p.m. (eastern standard time (EST)) and July 2, 2003, from 3 to 5 p.m. (EST). The purpose of these calls is to discuss program requirements and to respond to any questions regarding the program announcement. Two calls are scheduled in order to provide all applicants the opportunity to gather information and ask questions. It is not necessary to participate in both calls, though applicants are welcome to do so if they desire. To confirm your intent to participate and receive a meeting agenda and call-in instructions, applicants should send an e-mail or write Toni Fleming at thf2@cdc.gov or 1600 Clifton Rd., NE., MS E19, Atlanta, GA 30333.

Letter of Intent (LOI)

A LOI is requested for this program. The Program Announcement title and number must appear in the LOI. The narrative should be no more than two pages, double-spaced, printed on one side, with one-inch margins, and unreduced 12-point fonts. Your letter of intent will be used to enable CDC to determine level of interest in the announcement and estimate potential review workload, and should include the following information:

a. Number and title of the announcement.

b. Name, organization, address, telephone number, fax number, and e-mail address of the Principal Investigator(s).

c. A brief description of the data linkage project(s) being proposed, including which surveillance/monitoring systems are to be linked.

Failure to submit a LOI will not preclude an applicant from submitting an application.

Applications

The program announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced 12-point fonts.

Applicants should also submit appendices including abbreviated curriculum vitas, letters of support, organizational charts, and other similar supporting information. The total appendices should not exceed 25 pages, printed on one side.

All pages in the application should be clearly numbered and a complete index to the application and any appendices included. All materials should be provided unbound, one-sided, with one-inch margins, suitable for photocopying.

The applicant should provide a detailed description of first-year objectives and activities and should also describe future-year objectives and activities. A project timeline should be included. The application should contain the following:

1. Executive Summary (2 pages, double-spaced)

Provide a clear concise summary of the application.

2. The Narrative

The narrative should consist of:

a. Understanding of the purpose of data linkage as a tool for capacity building

b. Existing resources

c. Collaborative relationships

d. Operational plan and methods

e. Organizational and program personnel capability

The narrative should specifically address the “Program Requirements”.

3. Budget and Justification

a. Provide a detailed budget and line item justification of all proposed operating expenses consistent with the program activities described in this announcement, including how resources will be shared between collaborating agencies/programs.

b. The annual budget should include funding for two staff members to make two three-day trips to Atlanta for stakeholders/workgroup meetings, one two-day trip to Atlanta for a reverse site visit, and funding for one person to travel to Atlanta to attend the 6th National Environmental Health Conference December 3-5, 2003 and the annual PHIN meeting in May, 2004. (Review the CDC/NCEH web site for additional information about the 6th National Environmental Health Conference: http://www.cdc.gov/nceh/default.htm)

c. If applicable, applicant's proposed contracts should include the name of the person or firm to be contracted, a description of services to be performed, an itemized and detailed budget including justification, the period of performance and the method of selection.

d. Funding levels for years two and three should be estimated.

G. Submission and Deadline

Letter of Intent (LOI) Submission

On or before July 3, 2003, submit the LOI to the Project Officer identified in the “Where to Obtain Additional Information” section of this announcement.

Application Forms

Submit the signed original and two copies of PHS 5161-1 (OMB number 0920-0428). Forms are available at the following Internet address: http://www.cdc.gov/od/pgo/forminfo.htm.

If you do not have access to the Internet, or if you have difficulty accessing the forms on-line, you may contact the CDC Procurement and Grants Office Technical Information Management Section (PGO-TIM) at 770-488-2700. Application forms can be mailed to you.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Executive Summary

Narrative

Appendices

Submission Date, Time, and Address

Applications must be received by 4 p.m. EST, July 29, 2003. Submit the application to: Technical Information Management Section, PA#03074, Procurement and Grants Office, Centers for Disease Control and Prevention, 2920 Brandywine Road, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. EST on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application individually against the following criteria:

1. Operational plan and methods (30 points)

The extent to which the applicant has clearly described a proposed approach to carrying out the activities listed under Section E. “Program Requirements.” This includes: (1) Descriptions of project objectives that are specific, measurable and realistic; (2) inclusion of an implementation schedule/timeline that is reasonable and appropriately reflects major steps in recipient activities; (3) a protocol for conducting the data linkage project that is methodologically sound, includes key stakeholders, and provides adequate justification for selection of the specific hazard/exposure/health effect data to be linked; (4) a plan for providing and enhancing geo-coded data items in existing surveillance/monitoring systems; (5) steps for developing a communications/use of data strategy; (6) a plan for evaluating the linkage project and data dissemination/communication efforts; and (7) a demonstration of the project's potential for improving the capacity of both health effects and environmental exposure/hazard monitoring data systems and promoting sustained ability to link health, exposure, and environmental hazard data on an ongoing basis.

Research projects involving human subjects also need to address the following: Does the application adequately address the CDC Policy requirements regarding the inclusion of women, ethnic, and racial groups in the proposed research? This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

2. Existing Resources (25 Points)

The extent to which the applicant has described (1) existing surveillance and monitoring systems that will be used to conduct the linkage project including an estimate of the population/live births covered by the health effects surveillance system, timeliness of the data and other data system evaluation information, previous data analyses and publications, and examples of how the data from these existing systems previously has been used to take public health or environmental regulatory action; (2) the level of coordination with programs responsible for these surveillance/monitoring systems and the commitment of technical expertise from these programs for carrying out this project; (3) the adequacy of computer hardware and software available to carry out the project; (4) the actions that will be taken to ensure data security and privacy of individuals in both conducting linkages and disseminating results.

3. Collaborative Relationships (20 Points)

The extent to which the applicant describes past, current and proposed collaborations and experiences (for example in conducting surveillance, data linkage, and/or health investigations or other research studies) with relevant organizations and agencies within the state/local government (if applicable) and provides evidence that these organizations/agencies are willing and capable to support and be actively involved in carrying out the project. The extent to which the applicant describes past, current and proposed collaborations with other relevant external organizations such as state medical associations, national organizations, and the Federal Government that may be required to conduct program activities. Significant collaboration with those programs directly involved with the surveillance/monitoring systems being utilized (such as the state cancer or birth defects registry, the air monitoring program, the state health and environmental laboratories, and others) and with any existing CDC-funded Environmental Public Health Tracking Program within the state/locale. Evidence of collaboration includes letters from program directors outlining their support and involvement in the data linkage project and a budget plan that describes resource sharing among collaborating agencies/programs.

4. Understanding of the Purpose of the Data Linkage as a Tool for Capacity Building (15 Points)

The extent to which the applicant has a clear, concise understanding of the requirements, objectives, and purpose of the cooperative agreement. The extent to which the application reflects an understanding of purpose and use of surveillance data and realistic expectations of data linkage activities. The extent to which the application reflects the potential integration of data linkage activities into ongoing environmental public health tracking/surveillance/monitoring rather than it's use for special studies.

5. Organizational and Program Personnel Capability (10 Points)

The extent to which the proposed staffing, organizational structure, staff experience and background, and job descriptions indicate that the applicant is capable of carrying out this program, including past experiences relevant to the proposed project. The resumes/curricula vita of key personnel should be included in the application. The applicant should document commitment of staff and resources from both environment and health to the project. The resource documentation may be in the form of percent time dedicated to the project, in kind resources, travel, etc.

6. Budget and Justification (Not Scored)

The extent to which the proposal demonstrates appropriateness and justification of the requested budget relative to the activities proposed, including resource sharing among collaborating agencies/programs.

7. Performance Goals (Reviewed, But Not Scored)

8. Human Subjects Review (Not Scored)

Does the application adequately address the requirements of Title 45 CFR Part 46 for the protection of human subjects? Not scored; however, an application can be disapproved if the research risks are sufficiently serious and protection against risks is so inadequate as to make the entire application unacceptable.

Other Requirements

Technical Reporting Requirements

Provide CDC with the original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Appendix V of the program announcement, as posted on the CDC Web site.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-22 Research Integrity

J. Where To Obtain Additional Information

This and other CDC announcements, applications, and associated forms can be found on the CDC web site, Internet address: http://www.cdc.gov.

Click on “Funding” then “Grants and Cooperative Agreements.”

For general questions about this announcement, contact: Technical Information Management, CDC Procurement and Grants Office, 2920 Brandywine Road, Atlanta, GA 30341-4146, Telephone: 770-488-2700.

For business management and budget assistance, contact: Sharon Orum, Grants Management Specialist, Procurement and Grants Office, Centers for Disease Control and Prevention, 2920 Brandywine Road, Atlanta, GA 30341-4146, Telephone: 770-488-2716, Email address: spo2@cdc.gov.

For program technical assistance, contact: Phillip Finley, Project Officer, National Center for Environmental Health, Centers for Disease Control and Prevention, 1600 Clifton Rd. NE, MS-E19, Atlanta, GA 30338, Telephone: 404-498-1449, Email address: pjf2@cdc.gov.

Dated: June 13, 2003.
Edward Schultz,
Acting Director, Procurement and Grants Office, Centers for Disease Control and Prevention.

[FR Doc. 03-15453 Filed 6-18-03; 8:45 am]

BILLING CODE 4163-18-P